OVERSEAS PRIVATE INVESTMENT CORPORATION

Sunshine Act Meetings

TIME AND DATE: Thursday, December 13, 2018 2 p.m. (OPEN Portion); 2:15 p.m. (CLOSED Portion).

PLACE: Offices of the Corporation, Twelfth Floor Board Room, 1100 New York Avenue NW, Washington, DC.

STATUS: Meeting OPEN to the Public from 2 p.m. to 2:15 p.m.; Closed portion will commence at 2:15 p.m. (approx.).

MATTERS TO BE CONSIDERED:

1. President's Report

2. Minutes of the Open Session of the September 13, 2018, Board of Directors Meeting

FURTHER MATTERS TO BE CONSIDERED

(Closed to the Public 2:15 p.m.):

1. Finance Project—Lebanon

2. Insurance Project—Egypt

3. Insurance Project—Egypt

4. Finance Project—Paraguay

5. Finance Project—Honduras

6. Finance Project—Ecuador

7. Finance Project—India

8. Minutes of the Closed Session of the September 13, 2018, Board of Directors Meeting

9. Reports

10. Pending Projects

CONTACT PERSON FOR MORE INFORMATION: Information on the meeting may be obtained from Catherine F.I. Andrade at (202) 336-8768, or via email at Catherine.Andrade@opic.gov.

Dated: November 14, 2018.
Catherine Andrade,
Corporate Secretary, Overseas Private Investment Corporation.

[FR Doc. 2018-25217 Filed 11-14-18; 4:15 pm]

BILLING CODE 3210-01-P